DEPARTMENT OF TRANSPORTATION

Federal Transit Administration

Preparation of Environmental Impact Statement for the E Street Transit Corridor in San Bernardino, CA

AGENCY: Federal Transit Administration, DOT.

ACTION: Notice of intent to prepare an environmental impact statement (EIS).

SUMMARY: The Federal Transit Administration (FTA) and Omnitrans are issuing this notice to advise agencies and the public that, in accordance with the National Environmental Policy Act, FTA and Omnitrans, in cooperation with San Bernardino Association of Governments, Southern California Association of Governments and other public entities, will complete the Alternatives Analysis, adopt a Locally Preferred Alternative (LPA) and then prepare an Environmental Impact Statement (EIS) to evaluate transit improvements, including a potential bus rapid transit (BRT) line and other alternatives in the E Street corridor from California State University at San Bernardino to the City of Loma Linda in San Bernardino County, California. This Notice of Intent is being published at this time to notify all interested parties and to invite them to participate in the study. Conceptual alternatives to be considered may include No Action/No Build, transportation system management (TSM), bus rapid transit (BRT), and light rail transit (LRT). Other conceptual alternatives may be identified during the scoping sessions.

Scoping: Scoping for the studies will be developed during a process that will include an extensive review of previous and existing plans, consultation with affected agencies and interested persons, interviews with community leaders, public meetings and other outreach/involvement activities.

DATES: Two public scoping meetings, one at the Radisson Hotel & Convention Center 295 NE., Street, San Bernardino, CA 92401, on February 7, 2005, from 8 a.m. to 2 p.m. and the other to be held at the Feldheym Central Library, 555 W. 6th Street, San Bernardino, CA 92401, on February 9, 2005, at 5:30 p.m. Details of the public scoping meetings will be advertised in local newspapers and other media. An interagency scoping meeting will be held on February 17, 2005 at 1:30 p.m. (See ADDRESSES below). Written comments on the scope of the studies may be sent to Rohan Kuruppu, Director of Planning, Omnitrans within forty-five days of the meeting dates (See ADDRESSES below).

ADDRESSES: Written comments on the project should be sent to Rohan Kuruppu, Director of Planning, Omnitrans, Omnitrans Metro Facility, 1700 West Fifth Street, San Bernardino, CA 92411. The interagency scoping meeting will be held on February 17, 2005 at 1:30 p.m. at Southern California Association of Governments (SCAG), 818 West Seventh Street, 12th Floor, Los Angeles, CA, 90017. All scoping meetings will be held in facilities meeting the requirements of Americans with Disabilities Act.

SUPPLEMENTARY INFORMATION:

I. Notice of Intent

The Notice of intent is to prepare an Alternatives Analysis leading to an Environmental Impact Statement and is being published at this time to advise interested parties of the study and invite their participation. FTA regulations and guidance in accordance with the National Environmental Policy Act will be used in the analysis and preparation of the E Street Corridor studies.

II. Scoping

The FTA, Omnitrans, SANBAG, SCAG and other public entities invite comments both at the public meetings listed above and in writing for a period of 45 days following the date of the meetings. Comments should focus on identifying specific social, economic, or environmental concerns to be addressed, the types of alternatives to be considered as well as the scope and impacts of the alternatives.

If you wish to be placed on a mailing list to receive further information as the study progresses, contact Rohan Kuruppu at Omnitrans, 1700 West Fifth Street, San Bernardino, CA 92411.

III. Study Area

The study area is approximately 14 miles long, extending from California State University on the north to the City of Loma Linda on the south generally following Kendall Drive, E Street, Hospitality Lane and then south crossing under I-10 on one of three alternative alignments.

IV. Purpose and Need

Numerous key deficiencies and needs have been identified in the E Street Corridor. Existing transit services are slower than auto travel. Given that the corridor has high transit dependency and an aging population, this translates into reduced mobility for many residents. It also results in low usage by choice riders, particularly during lunchtime and mid-day periods. The corridor is in need of a catalyst to help accelerate revitalization efforts that have not yet been successful. Depressed economic conditions in the central corridor creates a disconnect of development between south and north. Portions of the corridor are viewed as unsafe. Scheduling of existing transit routes is difficult because of the potential for delays, particularly crossing the I-10 Freeway. This problem will get much worse as population and employment grow. Parking capacity is also a problem at the university and hospital campuses.

The purpose of the project is to mitigate the deficiencies identified above. Alternative transit scenarios to be evaluated must be designed to address the corridor's deficiencies and needs. Therefore each alternative will be designed to meet the following project goals:

• Enhance Mobility and Accessibility;

• Encourage Economic Growth and Redevelopment;

• Improve Transit Operations; and

• Provide a Cost Effective Solution.

V. Alternatives

As provided in the FTA major investment project development process, this Alternatives Analysis will focus on narrowing a range of conceptual alternatives to a manageable number to carry forward into detailed analysis. Conceptual alternatives to be considered may include:

• A No Action Alternative, including only existing and committed projects and services;

• A Transportation Systems Management (TSM) alternative that will include existing and committed projects, the most recent Omnitrans Short Range Transit Plan and other non capital improvements;

• One or more Bus Rapid Transit (BRT) alternatives in the E Street Corridor, with major improvements in the corridor; and

• A Light Rail Transit (LRT) alternative.

VI. Probable Effects

The purpose of the EIS is to fully disclose the environmental consequences of building and operating a premium transit system in the E Street Corridor in advance of any decisions to commit substantial financial or other resources towards its implementation. The Environmental Impact Statement will allow the project sponsors to evaluate the projects potential for significant adverse impacts during construction and operation and to identify feasible mitigation measures for those impacts. The specific analyses that would take place are land use, neighborhood character, social conditions and displacement, visual and aesthetic considerations, historic resources, archaeological resources, transit, traffic, parking, air quality, noise and vibration, energy, hazardous materials, water quality, natural resources, construction and construction impacts, cumulative impacts and environmental justice.

Depending on the outcome of the scoping process and the analysis of conceptual alternatives, a Locally Preferred Alternative (LPA) will be selected and evaluated in the Draft EIS. The Draft EIS will be prepared simultaneously with Preliminary Engineering for the project, including station and alignment options. The Draft EIS process will address the potential use of federal funds for the proposed action, as well as assess the social, economic, and environmental impacts of the station and alignment alternatives. Station designs and any alignment options will be refined to minimize and mitigate any adverse impacts.

VII. FTA Procedures

After publication, the Draft EIS will be available for public and agency review and comment, and a public hearing will be held. Based on the Draft EIS and comments received, the LPA may be refined, and Omnitrans will further assess the LPA in the Final EIS and will apply for FTA approval to initiate Final Design of the LPA.

Issued on: January 12, 2005.
Edward Carranza, Jr.,
Acting Regional Administrator.

[FR Doc. 05-1154 Filed 1-19-05; 8:45 am]

BILLING CODE 4910-57-P